DEPARTMENT OF HOMELAND SECURITY

Coast Guard

33 CFR Part 117

[CGD13-06-048]

RIN 1625-AA09

Drawbridge Operation Regulations; Youngs Bay and Lewis and Clark River, Astoria, OR

AGENCY: Coast Guard, DHS.

ACTION: Notice of proposed rulemaking.

SUMMARY: The Coast Guard proposes to change the operating regulations for the New Youngs Bay, Old Youngs Bay, and the Lewis and Clark River Drawbridges near Astoria, Oregon. This change is requested by the Oregon Department of Transportation (ODOT), owner of the bridges, due to reduced demand for draw openings.

DATES: Comments and related material must reach the Coast Guard on or before November 27, 2006.

ADDRESSES: You may mail comments and related material to Commander (dpw), 13th Coast Guard District, 915 Second Avenue, Seattle, WA 98174-1067 where the public docket for this rulemaking is maintained. Comments and material received from the public, as well as documents indicated in this preamble as being available in the docket, will become part of this docket and will be available for inspection or copying at the Aids to Navigation and Waterways Management Branch between 7:30 a.m. and 4 p.m., Monday through Friday, except Federal holidays.

FOR FURTHER INFORMATION CONTACT: Austin Pratt, Chief Bridge Section, (206)220-7282.

SUPPLEMENTARY INFORMATION:

Request for Comments

We encourage you to participate in this rulemaking by submitting comments and related material. If you do so, please include your name and address, identify the docket number for this rulemaking [CGD13-06-048], indicate the specific section of this document to which each comment applies, and give the reason for each comment. Please submit all comments and related material in an unbound format, no larger than 8½ by 11 inches, suitable for copying. If you would like to know they reached us, please enclose a stamped, self-addressed postcard or envelope. We will consider all comments and material received during the comment period. We may change this proposed rule in view of them.

Public Meeting

We do not now plan to hold a public meeting. But you may submit a request for a meeting by writing to the Aids to Navigation and Waterways Management Branch at the address under ADDRESSES explaining why one would be beneficial. If we determine that one would aid this rulemaking, we will hold one at a time and place announced by a later notice in the Federal Register.

Background and Purpose

The vertical lift of the New Youngs Bay Bridge, mile 0.7, when closed, provides 39.4 feet of vertical clearance above mean high water and 74.4 feet when open. The Old Youngs Bay bascule span, mile 2.4, provides 20 feet when closed and unlimited vertical clearance when open. The Lewis and Clark River Bridge, mile 1.0, provides 25 feet of clearance when closed and unlimited when open. The operating regulations currently in effect for these drawbridges at 33 Code of Federal Regulations 117.899 provide that the spans shall open for the passage of vessels from 6 a.m. to 6 p.m. Monday through Friday, and 8 a.m. to 4 p.m. Saturday and Sunday, if notice is given at least one half-hour in advance. At all other times, at least four hours advance notice must be given. The proposed rule would enable the bridge owner to reduce the shifts for staffing the drawbridges.

Discussion of Proposed Rule

The proposed rule would change the period on Monday through Friday during which notice must be given at least one half-hour in advance to 7 a.m. to 5 p.m. The requirement for at least one-half hour advance notice from 8 a.m. to 4 p.m. on Saturdays and Sundays would not be changed. Additionally, on all Federal holidays except Columbus Day, notice will be required at least two hours in advance. At all other times, notice will be required at least two hours in advance, instead of the currently required four hours advance notice.

Most of the vessels which require openings of the New Youngs Bay Bridge and the Lewis and Clark River Bridge are clients of Astoria Marine Construction, a company which repairs vessels. Generally, the arrival and departure of these vessels has not been hindered by the requirement to provide notice for openings.

The proposed rule would effectively reduce the half-hour notice period on Monday through Friday by two hours. Only a small percentage of the total openings of the three drawbridges occurred during these periods (Monday through Friday 6-7 a.m. and 5-6 p.m.). Less than 10 percent of the total number of openings by these three bridges occurred during those hours. Records from 2002 through 2005 showed that openings during those hours varied from a low of 6 percent of total opening to a high of 9 percent. The annual total number of openings at these particular hours ranged from 64 in 2002 to 47 in 2005. Openings on Federal holidays comprised only 1 to 2 percent of the total annual openings from 2002 to 2005.

Regulatory Evaluation

This proposed rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security.We expect the economic impact of this proposed rule to be so minimal that a full Regulatory Evaluation is unnecessary. The single commercial boat yard, which is the destination for most vessels that pass through the bridges, has indicated that they can tolerate the proposed changes.

Small Entities

Under the Regulatory Flexibility Act (5 U.S.C. 601-612), we have considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule would not have a significant economic impact on a substantial number of small entities. We expect few vessel operators will be inconvenienced by the proposed operating schedule as it quite similar to operating regulations that have been in effect without complaint for several years.

If you think that your business, organization, or governmental jurisdiction qualifies as a small entity and that this rule would have a significant economic impact on it, please submit a comment (see ADDRESSES) explaining why you think it qualifies and how and to what degree this rule would economically affect it.

Assistance for Small Entities

Under section 213(a) of the Small Business Regulatory Enforcement Fairness Act of 1996 (Pub. L. 104-121), we want to assist small entities in understanding this proposed rule so that they can better evaluate its effects on them and participate in the rulemaking. If the rule would affect your small business, organization, or governmental jurisdiction and you have questions concerning its provisions or options for compliance, please contact Austin Pratt, Chief, Bridge Section, at (206) 220-7282.

Collection of Information

This proposed rule would call for no new collection of information under the Paperwork Reduction Act of 1995 (44 U.S.C. 3501-3520.)

Federalism

A rule has implications for federalism under Executive Order 13132, Federalism, if it has a substantial direct effect on State or local governments and would either preempt State law or impose a substantial direct cost of compliance on them. We have analyzed this proposed rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this proposed rule will not result in such an expenditure, we do discuss the effects of this rule elsewhere in this preamble.

Taking of Private Property

This proposed rule would not affect a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This rule is not an economically significant rule and would not create an environmental risk to health or risk to safety that might disproportionately affect children.

Indian Tribal Governments

This proposed rule does not have tribal implications under Executive Order 13175, Consultation and Coordination with Indian Tribal Governments, because it would not have a substantial direct effect on one or more Indian tribes, on the relationship between the Federal Government and Indian tribes, or on the distribution of power and responsibilities between the Federal Government and Indian tribes.

Energy Effects

We have analyzed this proposed rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This proposed rule does not use technical standards. Therefore, we did not consider the use of voluntary consensus standards.

Environment

We have analyzed this proposed rule under Commandant Instruction M16475.lD and Department of Homeland Security Management Directive 5100.1, which guide the Coast Guard in complying with the National Environmental Policy Act of 1969 (NEPA) (42 U.S.C. 4321-4370f), and have concluded that there are no factors in this case that would limit the use of a categorical exclusion under section 2.B.2 of the Instruction. Therefore, we believe this proposed rule should be categorically excluded, under figure 2-1, paragraph (32)(e) of the Instruction, from further environmental documentation. Under figure 2-1, paragraph 32(e) of the Instruction, an “Environmental Analysis Checklist” and a “Categorical Exclusion Determination” are not required for this rule. However, comments on this section will be considered before the final rule.

List of Subjects in 33 CFR Part 117

Bridges.

Regulations

For the reasons discussed in the preamble, the Coast Guard proposes to amend 33 CFR part 117 as follows:

PART 117—DRAWBRIDGE OPERATION REGULATIONS

1. The authority citation for part 117 continues to read as follows:

Authority: 33 U.S.C. 499; 33 CFR 1.05-1(g); Department of Homeland Security Delegation No. 0170.1; section 117.255 also issued under the authority of Pub. L. 102-587, 106 Stat. 5039.

2. Revise § 177.899 to read as follows:

§ 117.899 Youngs Bay and Lewis and Clark River.

(a) The draw of the US101 (New Youngs Bay) highway bridge, mile 0.7 across Youngs Bay at Smith Point shall open on signal for the passage of vessels if notice is given at least one half-hour in advance to the drawtender at the Lewis and Clark River Bridge by marine radio, telephone, or other suitable means from 7 a.m. to 5 p.m. Monday through Friday and from 8 a.m. to 4 p.m. on Saturday and Sunday. At all other times, including all federal holidays except Columbus Day, notice is required by telephone at least two hours in advance. The opening signal shall be two prolonged blasts followed by one short blast.

(b) The draw of the Oregon State (Old Youngs Bay) highway bridge, mile 2.4, across Youngs Bay at the foot of Fifth Street, shall open on signal for the passage of vessels if notice is given at least one half-hour in advance to the drawtender at the Lewis and Clark River Bridge by marine radio, telephone, or other suitable means from 7 a.m. to 5 p.m. Monday through Friday and from 8 a.m. to 4 p.m. Saturday and Sunday. At all other times, including all federal holidays except Columbus Day, notice is required by telephone at least two hours in advance. The opening signal is two prolonged blasts followed by one short blast.

(c) The draw of the Oregon State (Lewis and Clark River) highway bridge, mile 1.0, across the Lewis and Clark River, shall open on signal for the passage of vessels if notice is given at least one half-hour in advance by marine radio, telephone, or other suitable means from 7 a.m. to 5 p.m. Monday through Friday and from 8 a.m. to 4 p.m. on Saturday and Sunday. At all other times, including all federal holidays except Columbus Day, notice is required by telephone at least two hours in advance. The opening signal is one prolonged blast followed by four short blasts.

Dated: October 13, 2006.
R.R. Houck,
Rear Admiral, U.S. Coast Guard, District Commander,Thirteenth Coast Guard District.

[FR Doc. E6-17971 Filed 10-26-06; 8:45 am]

BILLING CODE 4910-15-P